ENVIRONMENTAL PROTECTION AGENCY

[FRL-7594-5]

Proposed CERCLA Administrative Agreement for the Recovery of Past Response Costs Incurred at the Weld County Waste Disposal Site Near Ft. Lupton, in Weld County, CO

AGENCY: Environmental Protection Agency (EPA).

ACTION: Notice and request for public comment.

SUMMARY: In accordance with the requirements of section 122(i) of the Comprehensive Environmental Response, Compensation, and Liability Act, as amended (“CERCLA”), 42 U.S.C. 9622(i), notice is hereby given of a proposed administrative settlement under section 122(h)(1) of CERCLA, 42 U.S.C. 9622(h)(1), concerning the Weld County Waste Disposal site located at 4982 Weld County Road 35, approximately 4½ miles east of Ft. Lupton, in Weld County, Colorado. This settlement, embodied in a CERCLA section 122(h) Agreement for Recovery of Past Response Costs (“Agreement”), is designed to resolve each Settling Party's liability at the Site for past work and past response costs through covenants under sections 106 and 107 of CERCLA, 42 U.S.C. 9606 and 9607. The proposed Agreement requires the Settling Parties listed in the SUPPLEMENTARY INFORMATION section below to pay an aggregate total of $2,710,542.59.

Opportunity for Comment: For thirty (30) days following the date of publication of this notice, the Agency will consider all comments received, and may modify or withdraw its consent to the settlement if comments received disclose facts or considerations which indicate that either settlement is inappropriate, improper, or inadequate. The Agency's response to any comments received will be available for public inspection at the EPA Superfund Record Center, 999 18th Street, 5th Floor, in Denver, Colorado.

DATES: Comments must be submitted on or before January 5, 2004.

ADDRESSES: The proposed settlement and additional background information relating to the settlement are available for public inspection at the EPA Superfund Records Center, 999 18th Street, 5th Floor, in Denver, Colorado. Comments and requests for a copy of the proposed Agreement should be addressed to Carol Pokorny (8ENF-RC), Technical Enforcement Program, U.S. Environmental Protection Agency, 999 18th Street, Suite 300, Denver, Colorado 80202-2466, and should reference the Weld County Waste Disposal Site, in Weld County, Colorado and the EPA docket number, CERCLA-8-2003-0012.

FOR FURTHER INFORMATION CONTACT: Carol Pokorny, Enforcement Specialist (8ENF-RC), Technical Enforcement Program, U.S. Environmental Protection Agency, 999 18th Street, Suite 300, Denver, Colorado 80202-2466, (303) 312-6970.

SUPPLEMENTARY INFORMATION: Regarding the proposed administrative settlement under section 122(h)(1) of CERCLA, 42 U.S.C. 9622(h)(1): In accordance with section 122(i) of CERCLA, 42 U.S.C. 9622(i), notice is hereby given that the terms of the Agreement have been agreed to by the following settling parties, for the following amounts (where the name of one party is followed by one or more names grouped under it, the main name listed is the name that appears on the settlement signature page or is the name of the party that is assuming liability under the settlement):

Agreement for Recovery of Past Response Costs; EPA Docket No. CERCLA-8-2003-0012
Settling parties | Settlement amount
Adolph Coors Company and Coors Brewing Company | $278,096.78
Alsco, Inc. (f/k/a Steiner Corporation), settling on behalf of American Industrial | 0.00
Arapahoe Chemical, Inc. (n/k/a Roche Colorado Corp) | 1,939,739.44
Ball Metal Container | 27,078.61
Borg Warner Corporation (Morse Chain Division) | 0.00
Burlington Northern and Santa Fe Railway Company, settling on behalf of the Colorado and Southern Railroad Company | 6,076.75
Claude A. Akridge d/b/a University Hills Conoco and Claude A. Akridge, Inc | 640.91
COBE Laboratories, Inc. (n/k/a Gambro, Inc.) | 0.00
ConocoPhillips Company, settling on behalf of Asamera Oil (U.S.), Inc | 97,768.22
TOSCO Corporation | 73,423.12
Cooper Industries, settling on behalf of Gardner-Denver Corp | 13,591.18
CoorsTek, Inc., settling on behalf of Coors Porcelain Company, Inc., Coors Ceramics Company, CoorsTek, Inc | 200.00
Continental Airlines, Inc., settling on behalf of Frontier Airlines | 12,272.84
Envirosource, Inc., Successor to National Molasses Company | 6,805.97
General Iron Works | 0.00
Graphic Packaging Corporation | 225.00
Hazen Research, Inc | 17,353.00
International Business Machines (IBM) | 58,929.70
Johns Manville Corporation | 0.00
Kwal Paints Inc., J&H Shapiro, Inc., Helen Shapiro, Helen Ruth Shapiro Trust, Jack S. Shapiro Marital Trust, Jack S. Shapiro Family Trust, Joliet Associates, LPA, Kwalabuy Inc./,Kwal-Howells, Inc., and Professional Paint, Inc | 14,664.26
Lakewood, City of/South Lakewood Sanitation | 11,847.70
Marathon Oil Company. | 4,174.53
National Cash Register (NCR) | 4,876.23
Power Motive (PM) | 18,128.63
Regional Transportation District (RTD) | 292.71
Ryder Truck Rental, Inc | 0.00
Safeway, Inc | 14,488.09
Samsonite | 1,473.37
SASHCO, Inc | 0.00
Shattuck Chemical Co (S.W.), Inc | 24,766.04
Stonehouse Signs, Inc | 9.18
United Technologies Corporation, on behalf of Sundstrand Aviation Unit | 79,472.09
Tomahawk Watkins (n/k/a Alpine Diesel) | 0.00
U.S Geological Survey | 1,222.50
Weaver Electric Company | 2,925.74
Total | $2,710,542.59

By the terms of the proposed Agreement, the Settling Parties will pay a combined total of $2,710,542.59 to the Hazardous Substance Superfund. This payment represents approximately 53% of the $5,086,748,001.01 in past response costs incurred through September 30, 2002. The Settling Parties manifested 1,461,777.75 gallons of hazardous substances to the Site. This amount represents approximately 94% of the 1,552,849.32 gallons of hazardous substances manifested to the Site by all generators. The amount that each individual PRP will pay, as shown above, was based upon the number of gallons of hazardous substances manifested to the Site. To be eligible for the settlement, each generator must have submitted a response to EPA's Request for Information.

Dated: November 25, 2003.
Carol Rushin,
Assistant Regional Administrator, Office of Enforcement, Compliance, and Environmental Justice, Region VIII.

[FR Doc. 03-30170 Filed 12-3-03; 8:45 am]

BILLING CODE 6560-50-P